DEPARTMENT OF TRANSPORTATION

Federal Railroad Administration

[Docket No. FRA-2024-0006]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before January 3, 2025.

ADDRESSES: Written comments and recommendations for the proposed ICR should be submitted on regulations.gov to the docket, Docket No. FRA-2024-0006. All comments received will be posted without change to the docket, including any personal information provided. Please refer to the assigned OMB control number (2130-NEW) in any correspondence submitted. FRA will summarize comments received in response to this notice in a subsequent notice, made available to the public, and include them in its information collection submission to OMB for approval.

FOR FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Women of Rail (WoR) Gender Diversity Survey.

OMB Control Number: 2130-NEW.

Abstract: This project is being conducted as a one-time effort to administer research that will inform development of resources to improve gender diversity outcomes for the rail industry. The information collected in this study will be used to develop a richer understanding of effective practices for promoting gender diversity at all levels of the rail industry and to obtain greater insight into challenges and barriers that currently exist to attracting and retaining a more gender diverse workforce.

The study will also be used to address research needs as identified in FRA Broad Agency Announcement (BAA) RSI-003 Workforce Recruitment: Attracting and Retaining Women of Rail and to inform development of a resource toolkit to support the rail industry in attracting and retaining a more gender-diverse workforce. The data collection effort will consist of surveys, interviews, and focus groups that are designed to (1) identify the current attitudes, gender-specific barriers, cultural norms, and beliefs (written and unwritten) regarding women in traditionally male-dominated positions and (2) identify lessons learned, strategies, and practices that organizations are implementing to attract more women in the workplace.

A digital outreach strategy will be employed to solicit volunteer participants. Eligible participants include all rail industry workers, leaders in similar industries, middle and high school teachers and students, and college faculty and students. Surveys will be conducted via an online platform. The only data that will be collected through the survey is attitude and opinion data. Following the survey, interviews and focus groups will be conducted via established conferences, organization meetings, and through conference calls. Participants will only be asked to share opinions on the research topics. No personally identifying data will be collected with either the survey or interview/focus group activities.

The results of this study will be published in an FRA research report and will be used to inform development of a resource toolkit to support the rail industry in attracting and retaining a more gender-diverse workforce.

Type of Request: Approval of a new collection of information.

Affected Public: Businesses. Rail stakeholders including those in labor positions, carrier management, research/academia, professional association staff, Human Resource personnel, regulators, executive level staff, students, and faculty.

Form(s): FRA F 6180.280; FRA F 6180.285; FRA F 6180.286; FRA F 618.287.

Respondent Universe: Rail Employees, Rail Leaders, Education Focus Groups, Industry Focus Groups.

Frequency of Submission: On occasion.

Reporting Burden:

¹ Unless otherwise stated, the dollar cost equivalent throughout the burden table was derived using the wage rates from the May 2023 Department of Labor, Bureau of Labor Statistics (BLS), classified within the NAICS 482000, Rail Transportation. This data source was also used to determine the respondent universe for all rail occupations. All benefit costs are calculated using the BLS June 2023 Employer Costs for Employee Compensation. Student wage rates were calculated using SALARY TABLE 2023-GS (opm.gov). Benefit rates were not applied to student cost burdens.

² In order to get a representative sample of 181,210 employees FRA must contact approximately 5.65% of the respondent universe, which equates to approximately 10,245 persons.

³ Totals may not add up due to rounding.

Survey methods | Respondent universe | Estimated # contacted (* using 20% response rate for online surveys and industry interviews; 5% for education focus groups) | Total annual responses | Average time per response | Total annual burden hours | Wage ¹ rates | Total cost equivalent U.S. D
|  |  | (A) | (B) | (C) = A * B | (D) | (E) = C * D
FRA Rail Workers Form FRA F 6180.280 Survey #1 ² | All rail industry employees (N = 181,210) | 10,245 | 2,049 | 12 minutes | 410 hours | 46.26 | $18,966.60
Senior Leadership & Human Resources Form FRA F 6180.287 Survey #2- | Rail Companies (N = 654 (approx.) Class I-III, commuter, Amtrak) | 654 | 131 | 10 minutes | 22 hours | 81.16 | 1,785.52
Interviews Form FRA F 6180.285 Survey #3 | Non-managerial (N = 174,430) | 250 | 50 | 30 minutes | 25 hours | 46.26 | 1,156.50
| Managerial (N = 7,780) | 250 | 50 | 30 minutes | 25 hours | 81.16 | 2,029.00
| Similar Industry Managerial (N >> 7,780) | 125 | 25 | 30 minutes | 12.5 hours | 81.16 | 1,014.50
FRA Focus Groups Form FRA F 6180.286 Survey #4 | Middle and High school students (N = 30 schools) | 1,500 students (min. 10 schools to ensure demographic diversity | 75 responses | 1 hour | 75.00 hours | 15.50 | 1,162.50
| College students (N = 40 institutes of higher education (IHE)) | 1,000 Students (min. 5 IHEs to ensure demographic diversity) | 50 responses | 1 hour | 50.00 hours | 16.54 | 827.00
| Middle and High school faculty (N = 40 schools) | 400 faculty (min. 10 schools to ensure demographic diversity) | 20 responses | 1 hour | 20.00 hours | 62.60 | 1,252.00
| College faculty (N = 40 institutes of higher education (IHE)) | 400 faculty (min. 5 IHEs to ensure demographic diversity) | 20 responses | 1 hour | 20.00 hours | 94.48 | 1,889.60
Total ³ |  |  | 2,470 responses | N/A | 659.50 hours | N/A | 30,083.22

Total Estimated Annual Responses: 2,470.

Total Estimated Annual Burden: 659.50 hours.

Total Estimated Annual Burden Hour Dollar Cost Equivalent: $30,083.22.

FRA informs all interested parties that it may not conduct or sponsor, and a respondent is not required to respond to, a collection of information that does not display a currently valid OMB control number.

Authority: 44 U.S.C. 3501-3520.

Christopher S. Van Nostrand,
Deputy Chief Counsel.

[FR Doc. 2024-25597 Filed 11-1-24; 8:45 am]

BILLING CODE 4910-06-P